DEPARTMENT OF TRANSPORTATION

Federal Aviation Administration

14 CFR Part 39

[Docket No. FAA-2006-25896; Directorate Identifier 2006-NE-33-AD; Amendment 39-15093; AD 2007-12-15]

RIN 2120-AA64

Airworthiness Directives; General Electric Company (GE) CF34-10E Series Turbofan Engines

AGENCY: Federal Aviation Administration (FAA), Department of Transportation (DOT).

ACTION: Final rule.

SUMMARY: The FAA is superseding an existing airworthiness directive (AD) for GE CF34-10E series turbofan engines. That AD currently requires removing the fuel inlet strainer from main fuel pump (MFP) part number (P/N) 2043M12P03, installing a certain replacement flange as an interim repair, remarking the MFP to P/N 2043M12P04, and performing initial and repetitive visual inspections of the main fuel filter. This AD requires removing MFPs, P/Ns 2043M12P03, 2043M12P04, 837600-3, and 837600-4, from service and installing an improved MFP with a different P/N. This AD results from GE determining that the cause of MFP fuel strainer failure is a design problem with the strainer. We are issuing this AD to prevent engine in-flight shutdown due to MFP malfunctions.

DATES: This AD becomes effective July 19, 2007.

ADDRESSES: You can get the service information identified in this AD from General Electric Company via Lockheed Martin Technology Services, 10525 Chester Road, Suite C, Cincinnati, Ohio 45215, telephone (513) 672-8400, fax (513) 672-8422.

You may examine the AD docket on the Internet at http://dms.dot.gov or in Room W12-140 on the ground floor of the West Building, 1200 New Jersey Avenue SE., Washington, DC 20590.

FOR FURTHER INFORMATION CONTACT: Kenneth Steeves, Aerospace Engineer, Engine Certification Office, FAA, Engine and Propeller Directorate, 12 New England Executive Park, Burlington, MA 01803; telephone: (781) 238-7765, fax: (781) 238-7199.

SUPPLEMENTARY INFORMATION: The FAA proposed to amend 14 CFR part 39 by superseding AD 2006-20-06, Amendment 39-14775 (71 FR 57403, September 29, 2006), with a proposed AD. The proposed AD applies to GE CF34-10E2A1, -10E5, -10E5A1, -10E6, -10E6A1, and -10E7 turbofan engines, with MFP P/Ns 2043M12P03, P/N 2043M12P04, 837600-3, and 837600-4, installed. We published the proposed AD in the Federal Register on September 29, 2006 (71 FR 57403). That action proposed to require removing MFPs, P/N 2043M12P03, 2043M12P04, 83600-3, and 83600-4 from service and installing an improved MFP, not later than July 31, 2007.

Examining the AD Docket

You may examine the docket that contains the AD, any comments received, and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the comments received.

Address the Use of Parts Manufacturer Approval (PMA) Parts

One commenter, Mr. Jack Buster of the Modification and Repair Parts Association (MARPA), states that the PMA part may often share the identical design data with the original part while carrying a completely different part number; therefore, it is possible the AD will not address certain defective PMA parts installed on the aircraft, allowing the unsafe condition to continue.

The same commenter also states that it is possible that a “new and improved” PMA version of the defective original part may already exist in the marketplace. Therefore, specifying one approved part in preference to a different, but also approved part, will impart a commercial advantage to one manufacturer over the other.

We agree. We changed the final rule to add the PMA P/Ns 837600-3 and 837600-4 to the Applicability and replacement requirements of the final rule.

Conclusion

We have carefully reviewed the available data, including the comment received, and determined that air safety and the public interest require adopting the AD with the changes described previously. We have determined that these changes will neither increase the economic burden on any operator nor increase the scope of the AD.

Costs of Compliance

We estimate that this AD will affect 50 CF34-10E series turbofan engines installed on airplanes of U.S. registry. We also estimate that it will take about 3 work-hours per engine to perform the required actions, and that the average labor rate is $80 per work-hour. Required parts will cost about $4,226 per engine to upgrade the MFP to a different P/N to make it serviceable. Based on these figures, we estimate the total upgrade cost of this AD to U.S. operators to be $223,300.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14775 (71 FR 57403, September 29, 2006) and by adding a new airworthiness directive, Amendment 39-15093, to read as follows:

2007-12-15 General Electric Company: Amendment 39-15093. Docket No. FAA-2005-25896; Directorate Identifier 2006-NE-33-AD.

Effective Date

(a) This airworthiness directive (AD) becomes effective July 19, 2007.

Affected ADs

(b) This AD supersedes AD 2006-20-06, Amendment 39-14755.

Applicability

(c) This AD applies to General Electric Company (GE) CF34-10E2A1, -10E5, -10E5A1, -10E6, -10E6A1, and -10E7 turbofan engines, with main fuel pump (MFP) part number (P/N) 2043M12P03, P/N 2043M12P04, P/N 837600-3, and P/N 837600-4 installed. These engines are installed on, but not limited to, Embraer ERJ 190-100-STD, ERJ 190-100-LR, and ERJ 190-100-IGW airplanes.

Unsafe Condition

(d) This AD results from GE determining that the cause of MFP fuel strainer failure is a design problem with the strainer. We are issuing this AD to prevent engine in-flight shutdown due to MFP malfunctions.

Compliance

(e) You are responsible for having the actions required by this AD performed within the compliance times specified unless the actions have already been done.

MFP Removal and Installation

(f) Not later than July 31, 2007, remove MFPs, P/Ns 2043M12P03, 2043M12P04, 837600-3, and 837600-4 from service and install a serviceable MFP.

Definition

(g) For the purpose of this AD, a serviceable MFP is one that does not have P/N 2043M12P03, 2043M12P04, 837600-3 or 837600-4.

Recommended Actions

(h) We recommend that operators avoid performing the actions in this AD on both engines installed on the same airplane at the same time, if at all possible.

Alternative Methods of Compliance

(i) The Manager, Engine Certification Office, FAA, has the authority to approve alternative methods of compliance for this AD if requested using the procedures found in 14 CFR 39.19.

Related Information

(j) GE Service Bulletin No. CF34-10E S/B 73-0013, dated December 15, 2006, pertains to the subject of this AD.

(k) Contact Kenneth Steeves, Aerospace Engineer, Engine Certification Office, FAA, Engine and Propeller Directorate, 12 New England Executive Park, Burlington, MA 01803; telephone (781) 238-7765, fax (781) 238-7199, for more information about this AD.

Issued in Burlington, Massachusetts, on June 1, 2007.
Peter A. White,
Acting Manager, Engine and Propeller Directorate, Aircraft Certification Service.

[FR Doc. 07-2843 Filed 6-13-07; 8:45 am]

BILLING CODE 4910-13-P